DEPARTMENT OF COMMERCE

National Oceanic and Atmospheric Administration

Agency Information Collection Activities; Submission to the Office of Management and Budget (OMB) for Review and Approval; Comment Request; Improving Knowledge About NWS Forecaster Core Partner Needs for Reducing Vulnerability to Compound Threats in Landfalling Tropical Cyclones Amid Covid-19

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 19, 2022 (87 FR 43005) during a 60-day comment period. This notice allows for an additional 30 days for public comments.

Agency: National Oceanic & Atmospheric Administration (NOAA), Commerce.

Title: Improving Knowledge About NWS Forecaster Core Partner Needs for Reducing Vulnerability to Compound Threats in Landfalling Tropical Cyclones Amid Covid-19.

OMB Control Number: 0648-XXXX.

Form Number(s): None.

Type of Request: Regular submission (new information collection).

Number of Respondents: 35.

Average Hours per Response: 1 hour.

Total Annual Burden Hours: 35 hours.

Needs and Uses: The data collection is sponsored by DOC/NOAA/National Weather Service (NWS)/Office of Science and Technology Integration (OSTI). Compound hazards, like tornadoes and flash floods (called TORFFs), are a significant issue for risk communication and are common in landfalling tropical cyclones. Currently, NOAA lacks data and data collection instruments that articulate and explain how emergency managers and broadcast meteorologists receive, interpret, and respond to NWS prediction information about these compound hazards before and during landfalling tropical cyclones, like Hurricane Ida. Furthermore, NOAA lacks adequate knowledge about how these risks are best communicated during pandemics such as COVID-19, when it is important for those who are most vulnerable to adjudicate their risks of exposure to both severe weather and COVID-19. Such knowledge about compound weather hazards would be particularly useful for NWS forecasters who communicate risk information to their colleagues in emergency management and broadcast meteorology (hereafter “partners”), especially when information about sheltering practices, evacuation, and vulnerability can be complicated by exposure to public health threats and bilingual needs.

Semi-structured interviews will be conducted with partners in local areas impacted by recent hurricanes with embedded TORFF hazards, such as Hurricane Ida and its remnants. Semi-structured interview data will be collected on a one-off basis and will be conducted either virtually or in-person (COVID-19 restriction dependent). Specific questions in the interview guide determine how partners attend to, prioritize, and communicate information related to compound wind and water threats before and during landfalling tropical cyclones or hurricanes.

The interviews will be conducted by researchers at Texas Tech University's Risk and Equity in Disasters (RED) Lab and at Texas A&M. They have begun to develop data collection instruments that will allow them to gather risk information. These instruments are being created in collaboration with experts in emergency management and broadcast meteorology through the Board on Emergency Management and the Board on Professional Development within the American Meteorological Society. This helps assure the appropriateness of questions relative to different decision spaces, job roles, and communication processes.

This data collection serves many purposes, including building knowledge of how partners attend to, make sense of, and communicate compound hazards, as well as challenges they face in identifying vulnerable populations to severe weather in the context of COVID-19. These data will be reported in aggregate when possible and findings will be used by the NWS training centers in Norman, OK, and Kansas City, MO, to inform their practices for Impact-Based Decision Support Services (IDSS) and to improve the information and services it provides to members of the Weather Enterprise. Importantly, data collected will help assist NWS in developing new forecaster training modules, situational awareness information, and best practices for Impact-Based Decision Support with partners. This is a necessary step in improving risk communication among expert groups, which, in turn, benefits vulnerable populations who ultimately must act quickly and safely to adjudicate which risks pose the greatest threat to them as the threats evolve. Data collected from both populations will also be used for the practical utility of the government through semi-annual reports to NOAA to evaluate proposed metrics of success for completing the grant relative to progress to data. Conference presentations about findings will be made to the American Meteorological Society, National Weather Association, and related emergency manager conferences; webinars of best practices and situational awareness opportunities to partner or NWS offices; and insights about the challenges of communicating and preparing the public for compound hazards reported to peer reviewed publications in professional journals.

Affected Public: Business or other for-profit organizations; State, Local, or Tribal government; Federal government.

Frequency: One time.

Respondent's Obligation: Voluntary.

Legal Authority: 15 U.S.C. chapter 111, Weather Research and Forecasting Information.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-21518 Filed 10-3-22; 8:45 am]

BILLING CODE 3510-KE-P